FEDERAL COMMUNICATIONS COMMISSION

Notice of Public Information Collection(s) Being Submitted for Review to the Office of Management and Budget

May 6, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 17, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this new or revised information collection, you may do so by visiting the FCC PRA web page at: http://www.fcc.gov/omd/pra.

FOR FURTHER INFORMATION CONTACT: For additional information or copies of the information collection(s), contact Judith B. Herman at 202-418-0214 or via the Internet at Judith-B.Herman@fcc.gov.

SUPPLEMENTARY INFORMATION:

OMB Control No.: 3060-0795.

Title: Associate WTB Call Signs and Antenna Registration Numbers with Licensee's FRN.

Form No.: FCC Form 606.

Type of Review: Revision of a currently approved collection.

Respondents: Individuals or households; business or other for-profit, not-for-profit institutions, and state, local or tribal government.

Number of Respondents: 429,000.

Estimated Time Per Response: 1 hour.

Frequency of Response: Third party disclosure requirement, and on occasion reporting requirement.

Total Annual Burden: 429,000 hours.

Total Annual Cost: N/A.

Privacy Act Impact Assessment: Yes.

Needs and Uses: The Commission is revising the FCC Form 606 to make various changes to the form to update the mailing address and Web site addresses and also to change contact telephone numbers and web site addresses. The information collected in the FCC Form 606 will be used to populate the Universal Licensing System (ULS) for licensees and antenna structure registration owners who interact with ULS. This information will also be used to match records in the ULS database to the Collection System records to validate payment for application and for debt collection purposes.

Federal Communications Commission.
Marlene H. Dortch,
Secretary.

[FR Doc. 05-9821 Filed 5-17-05; 8:45 am]

BILLING CODE 6712-01-P